ELECTION ASSISTANCE COMMISSION

Sunshine Act Meetings

AGENCY: U.S. Election Assistance Commission.

ACTION: Sunshine Act notice; notice of public hearing agenda.

SUMMARY: Public Hearing: U.S. Election Assistance Commission: Lessons Learned from the 2020 Primary Election.

DATES: Wednesday, July 8, 2020 1:30 p.m.-3:30 p.m. Eastern.

ADDRESSES: Virtual via Zoom.

The hearing is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose:

In accordance with the Government in the Sunshine Act (Sunshine Act), Public Law 94-409, as amended (5 U.S.C. 552b), the U.S. Election Assistance Commission (EAC) will conduct a virtual hearing to address the lessons learned by state and local election officials during the 2020 elections in preparation for the remaining primaries and general election.

Agenda

The U.S. Election Assistance Commission (EAC) Commissioners will oversee a virtual hearing including testimony from state and local election officials. Panelists will discuss the challenges they faced during the 2020 primary elections, how they met those challenges, and how they plan to manage the general elections during the COVID-19 pandemic. Topics include poll worker recruitment and training; absentee and mail voting management; in-person voting location management; and result recording, accuracy, and setting expectations. The agenda includes remarks from panel participants and a question and answer portion from the Commissioners.

Background

The EAC hosted a hearing “Election Response to COVID-19: Administering Elections During the Coronavirus Crisis” on April 20, 2020. EAC Commissioners heard panelists present on major considerations for expanding vote by mail options for the remaining primaries and the general election and considerations for in-person voting. Panelists included state and local election officials and other representatives from the elections administration field. Other considerations such as accessibility for voters with disabilities and ensuring secure elections were also discussed. The hearing on July 8 will build off the information shared during that hearing, and the COVID-19 resources for election officials the EAC has compiled as part of their clearinghouse function at eac.gov.

The full agenda will be posted in advance on the EAC website: https://www.eac.gov.

Status

This hearing will be open to the public.

Amanda Joiner,
Associate Counsel, U.S. Election Assistance Commission.

[FR Doc. 2020-13720 Filed 6-22-20; 4:15 pm]

BILLING CODE P